DEPARTMENT OF HEALTH AND HUMAN SERVICES

National Institutes of Health

National Library of Medicine; Amended Notice of Meeting

Notice is hereby given of a change in the meeting of the Literature Selection Technical Review Committee, October 27-28, 2022, 9:30 a.m. to 5:00 p.m., which was published in the Federal Register on July 1, 2022, 87 FR 126, Page 39538.

This meeting will be amended to change the meeting time from 9:30 a.m.-5:00 p.m. to 10:00 a.m.-4:00 p.m. on both days. An open session is added from 10:00-11:20 a.m. on October 28, 2022.

The open session of the meeting will be virtual. Individuals who need special assistance, such as sign language interpretation or other reasonable accommodations, should notify Dianne Babski, Associate Director, Division of Library Operations, National Library of Medicine at babskid@mail.nih.gov. The open session will be videocast and can be accessed from the NIH Videocasting website (NIH VideoCast—LSTRC Meeting).

Dated: September 14, 2022.
Miguelina Perez,
Program Analyst, Office of Federal Advisory Committee Policy.

[FR Doc. 2022-20225 Filed 9-16-22; 8:45 am]

BILLING CODE 4140-01-P